COMMITTEE FOR PURCHASE FROM PEOPLE WHO ARE BLIND OR SEVERELY DISABLED

Procurement List Proposed Additions and Deletions

AGENCY: Committee for Purchase From People Who Are Blind or Severely Disabled.

ACTION: Proposed additions to and deletions from procurement list.

SUMMARY: The Committee is proposing to add to the Procurement List commodities and services to be furnished by nonprofit agencies employing persons who are blind or have other severe disabilities, and to delete a commodity previously furnished by such agencies.

COMMENTS MUST BE RECEIVED ON OR BEFORE: May 14, 2001.

ADDRESSES: Committee for Purchase From People Who Are Blind or Severely Disabled, Jefferson Plaza 2, Suite 10800, 1215 Jefferson Davis Highway, Arlington, Virginia 22202-3259.

FOR FURTHER INFORMATION CONTACT: Patrick T. Mooney (703) 603-7740.

SUPPLEMENTARY INFORMATION: This notice is published pursuant to 41 U.S.C. 47(a) (2) and 41 CFR 51-2.3. Its purpose is to provide interested persons an opportunity to submit comments on the possible impact of the proposed actions.

Additions

If the Committee approves the proposed addition, all entities of the Federal Government (except as otherwise indicated) will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information. The following commodities and services are proposed for addition to Procurement List for production by the nonprofit agencies listed:

Commodities

Hose, Fire

4210-00-542-3480

NPA: The Oklahoma League for the Blind, Oklahoma City, Oklahoma

Proform MAXIM, Proform CHOICE, Conform ICF Medical Mattress

7210-00-NIB-0048 (Proform MAXIM)

7210-00-NIB-0049 (Proform MAXIM)

7210-00-NIB-0050 (Proform MAXIM)

7210-00-NIB-0051 (Proform CHOICE)

7210-00-NIB-0052 (Proform CHOICE)

7210-00-NIB-0053 (Proform CHOICE)

7210-00-NIB-0054 (Comform ICF)

7210-00-NIB-0055 (Comform ICF)

7210-00-NIB-0056 (Comform ICF)

NPA: Raleigh Lions Clinic for the Blind, Inc., Raleigh, North Carolina

Services

Administrative Services, Building 8-1078, 1-3571, C-7417, 8-6643, Fort Bragg, North Carolina

NPA: ServiceSource, Inc., Alexandria, Virginia

Base Supply Center, United States Coast Guard, Integrated Support Command, Building #42, Alameda, California

NPA: Associated Industries for the Blind, Milwaukee, Wisconsin

Base Supply Center, Fort McCoy, Wisconsin

NPA: Associated Industries for the Blind, Milwaukee, Wisconsin

Call Center Services, Department of State, Bureau of Consular Affairs (Various locations throughout USA), Washington, DC

NPA: National Telecommuting Institute, Inc., Boston, Massachusetts

Data Entry, Department of Justice, Immigration & Naturalization Service, Washington, DC

NPA: Goodwill Industries of San Antonio, San Antonio, Texas

Employment Placement Services, Defense Logistics Agency, National Human Resource Offices, (HRO) Locations—Columbus, OH; Richmond, VA; Battle, Creek, MI; Philadelphia, PA; New Cumberland, PA, Fort Belvoir, Virginia

NPA: Columbia Lighthouse for the Blind, Washington, DC

The Chicago Lighthouse for People who are Blind or Visually Impaired, Chicago, Illinois

Delaware County Branch of the Pennsylvania Association for the Blind, Chester, Pennsylvania

Virginia Industries for the Blind, Richmond, Virginia

The Clovernook Center for the Blind, Cincinnati, Ohio

Susquehanna Association for the Blind and Visually Impaired, Lancaster, Pennsylvania

Food Service Attendant, Main Dining Facility—Building 3650, Expanded Flight Kitchen—Building 4507, Seymour Johnson Air Force Base, North Carolina

NPA: Coastal Enterprises of Jacksonville, Inc, Jacksonville, North Carolina

Janitorial/Custodial

Veterans Affairs, Greater Los Angeles Healthcare System, East Los Angeles Out Patient Clinic, East Los Angeles, CA

NPA: Job Options, Inc., San Diego, California

Janitorial/Custodial

Social Security Administration, Western Program Center, 1221 Nevin Avenue, Richmond, California

NPA: Calidad Industries, Inc., Oakland, California

Janitorial/Custodial

Bureau of Land Management, 1340 Financial Blvd, Reno, Nevada

NPA: United Cerebral Palsy of Northern Nevada, Sparks, Nevada

Janitorial/Custodial

Chateaugay Border Station, Chateaugay, New York

NPA: Citizen Advocates, Inc., Malone, New York

Janitorial/Custodial

Defense Enterprise Computing Center (DECC), Buildings 308 & 309, Naval Supply Activity (NSA), Mechanicsburg, Pennsylvania

NPA: Goodwill Services, Inc., Harrisburg, Pennsylvania

Janitorial/Custodial

Veteran Affairs Building, 5000 Wissahickon Avenue, Philadelphia, Pennsylvania

NPA: Elwyn, Inc., Concordville, Pennsylvania

Janitorial/Custodial

Wallace F. Bennett Federal Building, Salt Lake City, Utah

NPA: Community Foundation for the Disabled, Inc., Salt Lake City, Utah

Janitorial/Custodial

Veterans Affairs Medical Center, Huntington, West Virginia

NPA: Goodwill Industries of KYOWVA, Inc., Huntington, West Virginia

Janitorial/Custodial

ATF Building, Martinsburg, West Virginia

NPA: The Jeanne Bussard Center, Inc., Frederick, Maryland

Janitorial/Grounds Maintenance

At the following Locations:

U.S. Border Patrol Sector Headquarters, El Paso, Texas

U.S. Border Patrol Station One, El Paso, Texas

U.S. Border Patrol, Ysleta Border Patrol Station, El Paso, Texas

U.S. Border Patrol, Ysleta Traffic Checkpoint, Highway 62/108, El Paso, Texas

NPA: Training, Rehabilitation & Development Institute, Inc., San Antonio, Texas

Janitorial/Grounds Maintenance

At the following Locations:

U.S. Border Patrol, Laredo Sector, Laredo, Texas

U.S. Border Patrol Laredo South Station, Laredo, Texas

Laredo Border Patrol Traffic Checkpoint, Laredo, Texas

Border Patrol Sector Headquarters, 207 W. Del Mar Boulevard, Laredo, Texas

U.S. Border Patrol Station, Freer, Texas

U.S. Border Patrol Traffic Checkpoint, Freer, Texas

The Hebbronville Border Patrol Station, 802 N. Sigrid Street, Hebbronville, Texas

The Hebbronville Checkpoint, Hebbronville, Texas

The Border Patrol Traffic Checkpoint, Bruni, Texas

Laredo Sector Air Operations Hangar, Laredo, Texas

U.S. Border Patrol Station, San Antonio, Texas

Zapata Border Patrol Station, Zapata, Texas

Laredo North Border Patrol Station, 11119 N. McPherson Road, Laredo, Texas

NPA: Professional Contract Services, Inc., Austin, Texas

Janitorial/Grounds Maintenance

At the following Locations:

Border Patrol Station, Corpus Christi, Texas

Border Patrol Station, Falfurrias, Texas

Border Patrol Traffic Checkpoint, Falfurrias, Texas

Border Patrol Station, Harlingen, Texas

Border Patrol Station (E/T), Kingsville, Texas

Border Patrol Traffic Checkpoint (Sarita), Kingsville, Texas

Border Patrol Station (Mercedes), Weslaco, Texas

Border Patrol Station, Port Isabel, Texas

Border Patrol Station, Rio Grande City, Texas

Border Patrol Raymondville Annex, Raymondville, Texas

Border Patrol Port of Entry, Roma, Texas

U.S. Border of Patrol, McAllen Sector, Texas

Border Patrol Traffic Checkpoint, Brownsville, Texas

NPA: Training, Rehabilitation & Development Institute, Inc., San Antonio, Texas

Operation of Self Service Supply Store, General Services Administration, Romano L. Mazzoli Federal Building, 600 Martin Luther King Jr. Place, Louisville, Kentucky

NPA: New Vision Enterprises, Inc., Louisville, Kentucky

Ophthalmic Support Services, Yorktown Naval Weapons Station, Yorktown, Virginia

NPA: Association for Retarded Citizens of the Peninsula, Inc., Hampton, Virginia

Deletion

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46—48c) in connection with the commodities and services proposed for deletion from the Procurement List.

The following commodity is proposed for deletion from the Procurement List:

Commodity

Bracket, Eye, Nonrotary

3040-01-240-4456

Patrick T. Mooney,
Director, Pricing and Program Operations.

[FR Doc. 01-9234 Filed 4-12-01; 8:45 am]

BILLING CODE 6353-01-P